DEPARTMENT OF JUSTICE

Antitrust Division

Notice Pursuant to the National Cooperative Research and Production Act of 1993—National Center for Manufacturing Sciences, Inc.

Notice is hereby given that, on July 24, 2007, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, Ahura Scientific, Inc., Wilmington, MA; Ben Franklin Technology Partners, Philadelphia, PA; Camber Corporation, Huntsville, AL; City of Detroit Information Technology Services Dept., Detroit, MI; Electro-Mechanical Associates, Inc., Ann Arbor, MI; H.A. Burrow Pattern Works, Inc., La Habra, CA; I.D. Systems, Inc., Hackensack, NJ; MichBio, Ann Arbor, MI; Oxonica plc, Mountain View, CA; Purdue University, West Lafayette, IN; Radian Tool & Engineering, Troy, MI; and Savant Technology Group, Inc., Ann Arbor, MI have been added as parties to this venture. Also, Anautics, Inc., Oklahoma City, OK; Campfire Interactive, Inc., Ann Arbor, MI; Cleveland Advanced Manufacturing Program (CAMP), Cleveland, OH; Cor-Met Inc., Brighton, MI; Fraunhofer USA, Plymouth, MI; Integrated Technologies, Inc., Danville, VT; Leszynski Group Inc., Bellevue, WA; Midwest Thermal Spray, Farmington Hills, MI; and Raytheon Systems Company, McKinney, TX have withdrawn as parties to this venture.

No other changes have been made in either the membership or planned activity of the group research project. Membership in this group research project remains open, and NCMS intends to file additional written notification disclosing all changes in membership.

On February 20, 1987, NCMS filed its original notification pursuant to Section 6(a) of the Act. The Department of Justice published a notice in the Federal Register pursuant to Section 6(b) of the Act on March 17, 1987 (52 FR 8375).

The last notification was filed with the Department of Justice on February 15, 2007. A notice was published in the Federal Register pursuant to Section 6(b) of the Act on March 15, 2007 (72 FR 12198).

J. Robert Kramer II,
Director of Operations, Antitrust Division.

[FR Doc. 07-4165 Filed 8-24-07; 8:45 am]

BILLING CODE 4410-11-M